DEPARTMENT OF DEFENSE

Defense Acquisition Regulations System

48 CFR parts 205 and 210

RIN 0750-AG69

Defense Federal Acquisition Regulations Supplement; Publication of Notification of Bundling of Contracts of the Department of Defense (DFARS Case 2009-D033)

AGENCY: Defense Acquisition Regulations System, Department of Defense (DoD).

ACTION: Final rule.

SUMMARY: DoD is adopting as final, without change, an interim rule amending the Defense Federal Acquisition Regulation Supplement (DFARS) to implement the Fiscal Year 2010 National Defense Authorization Act, section 820, entitled “Publication of Notification of Bundling of Contracts of the Department of Defense.”

Dates: Effective Date: February 22, 2011.

FOR FURTHER INFORMATION CONTACT: Ms. Meredith Murphy, 703-602-1302.

SUPPLEMENTARY INFORMATION:

I. Background

DoD published an interim rule at 75 FR 40714 on July 13, 2010, to implement section 820 of the Fiscal Year 2010 National Defense Authorization Act (Pub. L. 111-84), enacted October 28, 2009. The period for public comment closed on September 13, 2010. The interim rule added a requirement at DFARS 205.205-70 to publish a notification of the intention to bundle a DoD procurement at least 30 days prior to (1) the release of a solicitation or (2) placing an order without a solicitation. This notification requirement is in addition to the existing requirements for market research at DFARS 210.001 when an acquisition could lead to a consolidation of contract requirements (see DFARS 210.001(c)(2)).

DoD received no comments on the proposed rule. Therefore, DoD is finalizing the interim rule without change.

II. Executive Order 12866

This rule is not a significant regulatory action and therefore was not subject to Office of Management and Budget review under section 6(b) of Executive Order 12866, Regulatory Planning and Review, dated September 30, 1993. This is not a major rule under 5 U.S.C. 804.

III. Regulatory Flexibility Act

This rule will not have a significant economic impact on a substantial number of small entities within the meaning of the Regulatory Flexibility Act, 5 U.S.C. 601, et seq. However, DoD has prepared a final regulatory flexibility analysis consistent with 5 U.S.C. 603. A copy of the analysis may be obtained from the point of contact specified herein. The analysis is summarized as follows.

This final rule amends the DFARS to implement section 820 of the National Defense Authorization Act for Fiscal Year 2010. Section 820 requires DoD contracting officers to publish a notification consistent with the requirements of FAR 10.001(c)(2) on FedBizOpps.gov, or any successor site, at least 30 days prior to the release of a solicitation for a bundled acquisition. In addition, if the DoD agency has determined that measurably substantial benefits are expected to be derived as a result of bundling, the notification must include a brief description of those benefits. The objective of the rule is to enable small businesses to compete for more work of which the firms might otherwise have been unaware. The notification requirement will provide a much broader segment of the small-business community awareness of upcoming business opportunities and then allow the small business to either submit a proposal or interact with the requiring agency to request unbundling before the solicitation is finalized. No comments were received from small entities on this rule.

IV. Paperwork Reduction Act

The rule does not impose any information collection requirements that require the approval of the Office of Management and Budget under the Paperwork Reduction Act (44 U.S.C. chapter 35).

List of Subjects in 48 CFR Parts 205 and 210

Government procurement.

Mary Overstreet,
Editor, Defense Acquisition Regulations System.

Interim Rule Adopted as Final Without Change

Accordingly, the interim rule amending 48 CFR parts 205 and 210 published at 75 FR 40714 on July 13, 2010, is adopted as final without change.

[FR Doc. 2011-3756 Filed 2-18-11; 8:45 am]

BILLING CODE 5001-08-P